DEPARTMENT OF THE INTERIOR

Geological Survey

Scientific Earthquake Studies Advisory Committee

AGENCY: Geological Survey.

ACTION: Notice of meeting.

SUMMARY: Pursuant to Pub. L. 106-503, the Scientific Earthquake Studies Advisory Committee (SESAC) will hold its sixth meeting. The meeting location is the U.S. Geological Survey, John Wesley Powell National Center, Rm. 1B215, 12201 Sunrise Valley Drive, Reston, Virginia 20192. The Committee is comprised of members from academia, industry, and State government. The Committee shall advise the Director of the U.S. Geological Survey (USGS) on matters relating to the USGS's participation in the National Earthquake Hazards Reduction Program.

The Committee will review the overall direction of the U.S. Geological Survey's Earthquake Hazards Program in the current and next fiscal years, with emphasis on defining future opportunities and strategies for balancing program needs against resource limitations. The Committee will also consider and recommend strategies for increasing visibility, impact, and external support for the Earthquake Hazards Program.

Meetings of the Scientific Earthquake Studies Advisory Committee are open to the public.

DATES: January 21, 2004, commencing at 9 a.m. and adjourning at 4:30 p.m. on January 22, 2004.

FOR FURTHER INFORMATION CONTACT: Dr. William Leith, U.S. Geological Survey, MS 905, 12201 Sunrise Valley Drive, Reston, Virginia 20192, (703) 648-6785.

Dated: December 18, 2003.
P. Patrick Leahy,
Associate Director for Geology.

[FR Doc. 03-32192 Filed 12-30-03; 8:45 am]

BILLING CODE 4310-Y7-M